DEPARTMENT OF HOUSING AND URBAN DEVELOPMENT

[Docket No. FR-5763-N-01]

Implementation of the Privacy Act of 1974, as Amended; Republication To Delete and Update Privacy Act System of Records Notifications

AGENCY: Office of the Chief Information Officer.

ACTION: Notice Republications.

SUMMARY: Pursuant to the Privacy Act of 1974 (U.S.C. 552a (e) (4)), as amended, and Office of Management and Budget (OMB), Circular No. A-130, notice is hereby given that the Department of Housing and Urban Development (HUD), Office of the Chief Information Officer (OCIO) republishes in the Federal Register actions for 12 program component systems of records. The revisions implemented under this republication are corrective and administrative that refines previously published details for each system of records in a clear and cohesive format. This republication does not meet the threshold criteria established by the Office of Management and Budget (OMB) for a modified system of records report. A more detail descriptions of the present systems are republished under this notice. This notice supersedes all previously published notices.

DATES: Effective Date: All revisions included in this republication are complete and accurate as of [January 23, 2014].

FOR FURTHER INFORMATION CONTACT: Donna Robinson-Staton, Chief Privacy Officer, 451 Seventh Street SW., Washington, DC 20410 (Attention: Capitol View Building, 4th Floor), telephone number: (202) 402-8073. [The above telephone number is not a toll free numbers.] A telecommunications device for hearing- and speech-impaired persons (TTY) is available by calling the Federal Information Relay Service's toll-free telephone number (800) 877-8339.

SUPPLEMENTARY INFORMATION:

Republication To Delete and Update Privacy Act Systems of Records

Subsequent reviews for 12 systems of records resulted in an update to 3 systems of records and a deletion of 9 systems of records. Final analysis concluded with removing obsolete documentation from the Department's system of records repository, refining categories of information and republishing information in a clear and cohesive format, and implementing new coding schemes for each systems of records, in an effort to streamline and present each system of records in a coding structure that easily differentiate program specific systems of records. These notices were last published in the Federal Register under separate citations. The Federal Register publications and citations associated with each notice can be viewed by going to the Department's Privacy Web site.¹

¹ http://portal.hud.gov/hudportal/HUD?src=/program_offices/cio/privacy/pia/fednotice/SORNs_LoB

Deleted Systems—The 9 systems deleted by this republication, and their existing coding structure are listed as follows:

1. HUD/H-3 Single Family Housing Monitoring System

2. HUD/H-8 Property Rental Files

3. HUD/DEPT-20 Single Family Homeownership Assistance Application and Recertification (HARAS)

4. HUD/DEPT-22 Housing Counseling, April 22, 1982

5. HUD/DEPT-23 Single-Family Research Files

6. HUD/DEPT-43 Real Estate owned (REO) Property Files

7. HUD/DEPT-32 Mortgages—Delinquent/Default/Assigned/Temporary Mortgage Assistance Payments [TMAP] Program

8. HUD/HS-57 (A80N)—Single Family Mortgage Notes System

9. HUD/HS-60 Nonprofit Data Management System (NPDMS) System

Updated Systems—This following notices supersede the previously published notices. The 3 systems modified by this republication and their new coding structure are listed as follows:

1. HSNG.SF/HWAA.01 Single Family Acquired Asset Management System (Previously SAMS A80s, published June 20, 2006)

2. HSNG.SF/HWAA.02 Single Family Insurance System CLAIMS Subsystem (HUD/SFH-02, Published November 20, 2007)

3. HSNG.SF/HUF.01 Asset Disposition and Management System (Previously HUD/HS-58, Published October 21, 2008)

These systems are those maintained by HUD that included or includes personally identifiable information provided by individuals from which information was or is retrieved by a name of unique identifier. The system revisions encompass programs and services of the Department's data collection and management practices. Under this republication, the Department proposes to update 3 Privacy Act systems of records, and delete 9 obsolete systems of records, and implement a new coding structure for updated systems of records.

This republication allows HUD to organize and re-publish up-to-date information for these systems of records in a more useful format. The system modifications and deletions incorporate Federal privacy requirements, and HUD policy requirements. The Privacy Act provides certain safeguards for an individual against and invasion of personal privacy by requiring Federal agencies to protect records contained in an agency system of records from unauthorized disclosure, ensure that information is current for its intended use, and that adequate safeguards are provided to prevent misuse of such information. Additionally, the updates reflect the Department's focus on industry best practices in protecting the personal privacy of the individuals covered by each system notification. This notice for each system of records state the name and location of the record system, the authority for and manner of it operations, the categories of individuals that it covers, the type of records that it contain, the sources of the information for those records, the routines uses of each systems of records, and the system of records exemption types. In addition, each notice include the business address of the HUD officials who will inform interested persons of the procedures whereby they may gain access to and/or request amendments to records pertaining to them. The routine uses that apply to this publication are reiterated based on past publication to clearly communicate the ways in which HUD continues to conducts some of its business practices.

Since the republication of system of records notices does not meet the threshold requirements for new or amended system a report was not submitted to the Office of Management and Budget (OMB), the Senate Committee on Homeland Security and Governmental Affairs, and the House Committee on Government Reform as instructed by Paragraph 4c of Appendix l to OMB Circular No. A-130, “Federal Agencies Responsibilities for Maintaining Records About Individuals,” July 25, 1994 (59 FR 37914).

Authority: 5 U.S.C. 552a; 88 Stat. 1896; 42 U.S.C. 3535(d).

Dated: February 21, 2014.
Joseph Milazzo,
Deputy Chief Information Officer.

HSNG.SF/HWAA.01

System name:

Single Family Acquired Asset Management System.

System location:

2020 Union Carbide Drive, South Charleston, WV 25303-2734, and at the HUD Headquarters building, 451 Seventh Street SW., Washington, DC 20410.

Categories of individuals covered by the system:

Individuals who are covered by this system include successful bidders of a HUD-owned property. Also, individuals involved in the sale of HUD/FHA Single-Family homes: Management and Marketing contractors (M&M), HUD employees, Brokers, and Contractors.

Categories of record in the system:

Files contain identifying information about: Purchasers, such as name, Social Security Number, and current address. HUD Employees, such as Headquarters and Homeownership staff, Brokers, such as Selling Brokers and Closing Agents, Contractors, such as Management and Marketing (M&M) contractors: Mortgagee Compliance Monitor, Asset Managers and Field Service Managers,Vendors, such as appraisers, trade/service vendors, homeowner associations, local/state governments, nonprofit organizations, NSP grantees. In addition, the files contain: HUD-1 information, such as appraisal information, tax payments, sales offer information, contract information, and accounting transactions, 1099 information, such as payees (except tax-exempt organizations) who receive $600.00 or more during a single tax year for services provided to HUD,

Authority for maintenance of the system:

National Housing Act as amended (12 U.S.C. 1702 et seq.). HUD is authorized to collect the Social Security Number (SSN) by Section 165(a) of the Housing and Community Development Act of 1987, Public Law 100-242 and by 42 U.S.C. 3543.

Purpose:

SAMS is a management and accounting system for HUD owned and HUD managed single-family properties. The re-engineered application was introduced into production in 1996. SAMS supports HUD staff at Headquarters and Homeownership Centers (HOCs), and HUD's Management and Marketing (M&M) contractors to track single-family properties from their acquisition by HUD through the steps necessary to resell the properties. SAMS captures pertinent data relating to the properties, including acquisition, maintenance and sales cost, property description and value, bids and sales proceeds, and special program designations. Cases that have been in step 10, and subsequently without accounting activity for two years, are designated for archive and removed from SAMS. As a result of the archive process, all related case management and accounting data records are removed from the SAMS database. These case records do however, remain available in P260 and the Single Family Data Warehouse.

Routine uses of records maintained in the system, including categories of users and the purpose of such uses:

In addition to those disclosures generally permitted under 5 U.S.C. 552a(b) of the Privacy Act other routine uses include:

(a) General Accounting Office (GAO) for audit purposes.

(b) Inspector General Office (IG) for audit purposes.

(c) IRS for tax purposes to allow payees to submit their 1099 miscellaneous form.

(d) Management and Marketing contractors for processing the sale of HUD Homes.

(e) Financial Control Contractors for processing for data input.

Additionally, refer to Appendix 1, HUD's Inventory of Routine Uses” ² section for a description of disclosures that may be applicable to this system.

² http://portal.hud.gov/hudportal/documents/huddoc?id=append1.pdf

Policies and practices for storing, retrieving, accessing, retaining, and disposing of records in the system:

Storage:

Records are stored electronically in a computer mainframe.

Asset Managers are required to keep closed case files for HUD properties sold for six months. After that, the AMs send the case files to storage. FHA is required to maintain all closed case files for properties for 40 years.

Retrievability:

Records are retrieved by computer search by the FHA Case Number, Property Address, or Purchaser's name and/or social security number.

Safeguards:

Records are maintained in a secured computer network behind HUD's firewall. Access is limited to authorize personnel and requires a password and user ID before system access is granted.

Retention and disposal:

Information is archived electronically and stored on magnetic tapes. Records will be retained and disposed of in accordance with the General Records Schedule included in HUD Handbook 2228.2, appendix 14, items 21-26. Paper base records are destroyed by burn or shredding. Electronic records are purged or deleted from the system when eligible to be destroyed using one of the methods described by the NIST SP 800-88 “Guideline for media Sanitization” (September 2006).

System manager and address:

TDB, Office of Single Family Asset Management, 451 Seventh Street SW., Room 9184, Washington, DC 20410.

Records Access and Notification procedures:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR part 16.

Contesting record procedures:

Procedures for the amendment or correction of records, and for applicants want to appeal initial agency determination appear in 24 CFR part 16. If additional information is needed, contact:

(i) In relation to contesting contents of records, the Privacy Act Officer at HUD, 451 Seventh Street SW., Room 4178 (Attention: Capitol View Building, 4th Floor), DC 20410;

(ii) In relation to appeals of initial denials, HUD, Departmental Privacy Appeals Officer, Office of General Counsel, 451 Seventh Street SW., Washington, DC 20410.

Record source categories:

Purchasers, brokers, appraisers, contractors, and HUD employees.

Exemptions from certain provisions of the act:

None.

HSNG.SF/HWAA.02

System Name:

Single Family Insurance System—Claims Subsystem (A43C).

System Location:

The U.S. Department of Housing and Urban Development, 451 Seventh Street SW., Washington, DC 20410, and at the Single Family Insurance System—Claims Subsystem software is located on HUD's mainframe, which is located at 3200 Kanawha Turnpike. Building 6000, South Charleston, WV 25303. Backup facilities and infrastructure services are provided by SUNGUARD (184 Railroad Drive, Warminster, PA 18974) and Lockheed Martin (4701 Forbes Boulevard, Lanham, MD 20706) respectively.

Categories of Individuals Covered by the System:

A43C maintains data on mortgagors that have obtained a HUD insured mortgage. The system also records the servicer and holder of HUD insured mortgages.

Categories of Records in the System:

The Single Family Insurance System—Claims Subsystem includes mortgagor data such as FHA case number, mortgagor name, mortgagor Social Security Number, property address, and mortgage amount. Stored holder information includes the holder mortgagee name, holder number, holder address, and mortgagee reference number. Stored servicer information includes the servicer mortgagee name, servicer number, and servicer address.

Authority for Maintenance of the System:

U.S. Housing Act of 1937 as amended (Pub. L. 75-412); National Housing Act of 1934; 24 CFR 203.35 (2013); 24 CFR 200.6 (2013); and 24 CFR 5.216 (2013).

Description and System Purposes:

The Single Family Insurance System—Claims Subsystem (CLAIMS) processes single family (SF) insurance claims against defaulted loans. CLAIMS also processes accounts receivables relating to SF claims, performs collection activities, processes cash receipts, and records accounts receivable activities as well as providing accounting information to users. The claims process is initiated when a servicing mortgagee completes and submits an application for Single Family Insurance Benefits (HUD Form 27011) to HUD headquarters, via Electronic Data Interchange (EDI), the FHA Connection, or paper. Each type of claim requires the submission of a Part A (Initial Application) and Part B (Fiscal Data). When submitting a paper conveyance claim, a Title Approval Letter (TAL) must accompany the claim. However, when transmitting the claim through EDI, the TAL is not submitted with the conveyance claim because the title approval data from A80S-Single Family Acquired Asset Management System (SAMS) is stored in an authorization file. Collection of a borrower's PII isn't required for performance of A43C's objective per say. A43C is a subset of A43 which is the system of record for insured single family loans. Prior to payment of claim for an insured loan through A43C, the loan needs to first be issued and insured through A43. And in the process of the borrower obtaining an FHA-insured loan, their PII is required to be collected.

Routine Uses of Records Maintained in the System, Including Categories of Users and the Purposes of Such Uses:

In addition to those disclosures generally permitted under 5 U.S.C. 552 a(b) of the Privacy Act, other routine uses are as follows:

1. U.S. Treasury: A43C provides the Electronic Funds Transfer disbursement information to Treasury for claim payments.

2. eBits: Automated mailing contractor—Advice of Payment, (AOP), Billing, and Title Approval letters.

3. Federal Housing Administration (FHA)-Approved Lenders: Lenders submit claims using the Single Family Application for Insurance Benefits (Form HUD-27011) via Electronic Data Interchange (EDI), the FHA Connection, or paper. Form HUD-27011 includes PII such as name, Social Security Number, and property address. Upon analysis of the claim, the lender will receive from HUD TS824, “Request for Correction”, stating any deficiencies that need to be corrected, or TS820, AOP, informing the lender that the claim has been paid.

4. SFIS (A43): The purpose of the outgoing interface to SFIS is to update the FHA insurance status to “CLAIM” and to provide an effective date for the status change upon authorization of a claim for payment.

5. CAIVRS (F57): Outgoing—With authorized lenders and Federal agencies for the purpose of prescreening applicants for loans or loans guaranteed by the Federal Government for the purpose of evaluating a loan applicant's creditworthiness. Provision of the Social Security Numbers of mortgagors associated with the initial claim payment (Part A) over the past three years.

6. FHASL (PO13): FHASL is provided with paid claims fiscal data from SFIS-CS and Loss Mitigation on a daily and monthly basis.

7. SFHEDW (D64A): SFIS-CS data is extracted and uploaded to the SFHEDW for analysis on a weekly basis.

8. CHUMS (F17): SFIS-CS receives indemnification information related to specific cases from CHUMS on a daily basis.

9. SAMS (A80S): Outgoing—Provides financial information for paid Conveyance claims or paid Supplemental claims with an original paid Conveyance claim on a daily basis. Additionally, the SAMS extract file (from ARS) provides case-level information for established and adjusted receivables on a monthly basis. Incoming—Defines whether Title Evidence was approved; title approval is a pre-requisite for processing Part B Conveyance claims.

10. SFMNS/IFS (A80N): Provides the Strategy Group with paid Loss Mitigation—Partial Claims (Claim Type 33) data daily for the monitoring of these Secretary-held subordinate notes.

11. FHAC (F17C): Outgoing—Provides lenders and HUD users with case status information and title approval via the Internet. Incoming—Provides the capability for authorized lender employees to submit individual claims for specified claim types.

12. IMF (F51): SFICS accesses the IMF to obtain lender institution information for the purpose of EFT payment and address generation.

13. EDIS (U26A): Transfer of the TS 998 to confirm receipt of a claim transmitted via Electronic Data Interchange. Transfer of the TS 820 and TS824 files to the respective trading partners for the servicer or holder to indicate either payment or suspension of incoming claims received as TS260 transactions. The TS824 transactions are error records from the A43C batch load process.

14. GNMA: Provides GNMA with paid claims information for FHA-insured loans in GNMA pools.

15. Fannie Mae: Fannie Mae, as a holder, receives data regarding paid claims information for FHA-insured loans through an Advice of Payment.

Additionally, refer to Appendix 1, HUD's Inventory of Routine Uses” ³ section for a description of disclosures that may be applicable to this system.

³ http://portal.hud.gov/hudportal/documents/huddoc?id=append1.pdf

Policies and practices for storing, retrieving, accessing, retaining, and disposing of records in the system:

Storage:

Various types of storage media are used depending on the method used for filing a claim. Paper claims are filed at our contractor's office after processing, while disks and tapes are used to store electronic records in multiple computer record systems. Computer Center: 2020 Union Carbide Drive, South Charleston, WV 25303.

Retrievability:

Data regarding a claim filed on a HUD insured property is obtained using the FHA Case Number, property address, mortgagor's name, mortgagee servicing number, or mortgagee holder number. Data retrieval can be performed in several ways: Standard reports, access via online pre-programmed CICS screens in A43C, access via the FHA Connection for case information, and the Data Warehouse (D64A).

Safeguards:

Safeguards that are in place include: Lockable file cabinets; Secured computer facilities at HUD and their contractor's offices; Background checks of all HUD employees and contractor staff; Computer access to the multiple HUD record systems is restricted by passwords, defined individual access profiles (least privileges), and access to specified data fields is restricted. Users, whether at HUD Headquarters or the Homeownership Centers, obtain access to CLAIMS through a HUD INET communication link from their LAN to the IBM mainframe computer; Data is transmitted over secure T-1 and Shiva lines; Information about conveyed properties is available to the public via the Internet for marketing purposes. However, information covered by the Privacy Act of 1974 and the Right to Financial Privacy Act (12 U.S.C. 3401 et seq.) is not incorporated in any Internet site.

Retention and Disposal:

Obsolete data/backup tapes and/or hard drives are degaussed per DoD standards prior to disposal, release out of organizational control, or release for reuse. Further, tapes and hard drives are physically destroyed through shredding per DoD standards. However, defective/failed EMC SAND drives aren't degaussed or destroyed. Data is stored in a SAN and HPES uses a government-approved data wipe software. HPES then physically destroys the disk.

System manager(s) and Address:

Director, Single Family Post Insurance Division and Chief, Single Family Claims Branch; HUD, 451 Seventh Street SW., Room 6248, Washington, DC 20410.

Notification and Records Access Procedures:

The Department's rules for providing access to records to the individual concerned are in accordance with 24 CFR part 16—Implementation of the Privacy Act of 1974. Individuals seeking information, assistance, or inquiry about the existence of records can contact the Departmental Privacy Act Officer at the Department of Housing and Urban Development, 451 Seventh Street SW., Room 4156, Washington, DC 20410. Written requests must include the full name, current address, and telephone number of the individual making the request, as well as proof of identity, including a description of the requester's relation to the information in question.

Record Access Procedures:

The Department's rules for providing access to an individual's records appear in 24 CFR Part 16—Implementation of the Privacy Act of 1974. If additional information or assistance is required, contact the Departmental Privacy Act Officer.

Contesting Record Procedures:

The procedures for requesting amendment or correction of records appear in 24 CFR part 16. If additional information is needed, contact:

(i.) In relation to contesting contents of records, the Privacy Act Officer at HUD, 451 Seventh Street SW., Room 4178 (Attention: Capitol View Building, 4th Floor), (202) 402-8073, Washington, DC 20410;

(ii.) In relation to appeals of initial denials, HUD, Departmental Privacy Appeals Officer, Office of General Counsel, 451 Seventh Street SW., Washington, DC 20410.

Record Source Categories:

Record source categories include HUD/FHA Claims for Insurance Benefits, subject individuals; other individuals; credit bureaus; financial institutions; other corporations or firms; federal government agencies; non-federal (including foreign, state and local) government agencies; real estate brokers and agents.

Exemptions from certain provisions of the Act:

None.

HSNG.SF/HUF.01

System name:

Asset Disposition and Management System (ADAMS-VBSP-P260).

System location:

SunGard, 1001 E Campbell Road, Richardson, TX 75081; SunGard, 120 Van Buren Street, Suite 202, Phoenix, AZ 85004 (Disaster Recovery site) Federal Records Center (at retirement), and at the HUD Headquarters building, 451 Seventh Street SW., Washington, DC 20410.

Categories of individuals covered by the system:

Individuals who are covered by this system include successful bidders of a HUD-owned property, non-profit organizations, Government Entities, Nonprofit board members and key staff and Asset Control Area (ACA) participants approved by HUD to purchase HUD/FHA single-family homes. Also, individuals involved in the sale of HUD/FHA single-family homes Management and Marketing contractors (M&M), HUD employees, brokers, Name and Address identifier contractors, and financial control contractors.

Categories of record in the system:

Files contain identifying information about successful bidders, such as name, Social Security Number, and current address. In addition, the files contain appraisal information, tax payments, purchase sales offer information, HUD-1, purchase contract information, vendor information, and Management and Marketing contractor invoice information. Additional Nonprofit/Government entity Business Documentation: (IRS Letters for Determination of Nonprofit Status, Articles of Organization; Mortgage Notes, W-9/SAMS-1111), Property Report Documentation (Median Income certification) and limited information about the homebuyers; such as, their name, and address, SSN, and race/ethnicity characteristics.

Authority for maintenance of the system:

National Housing Act as amended (12 U.S.C. 1702 et seq.). Housing and Urban Development 24 CFR 200.194 (Part 200— Introduction to FHA Programs)—Placement of Nonprofit Organization on Nonprofit Organization Roster. 42 U.S.C. 3543—Sec. 3543 Preventing fraud and abuse in Department of Housing and Urban Development programs, National Housing Act, Section 235(b), Public Law 479, 48 Stat. 12 U.S.C. 1701 et seq., Section 165 (a) of the Housing and Community Development Act of 1987, Public Law 100-242, Section 904 of the Stewart B. McKinney Homeless Assistance Amendments Act of 1988, Public Law 100-628.

Purpose: ADAMS/P260 is a case management system for HUD owned and HUD managed single-family properties. The P260 application was introduced into production in 2010. ADAMS/P260 supports HUD staff at Headquarters and Homeownership Centers (HOCs), and HUD's Management and Marketing (M&M) contractors to track single-family properties from their acquisition by HUD through the steps necessary to resell the properties. ADAMS/P260 captures pertinent data relating to the properties, including acquisition, maintenance and sales cost, property description and value, bids and sales proceeds, and special program designations. ADAMS/P260 also tracks and monitors certain events after sales under the Good Neighbor Next Door, non-profit, and ACA sales programs. Additional Nonprofit/Government entity web-based program management tools improve the application, recertification, and reporting process for organizations that participate in the Office of Single Family Housing (OSFH) activities and to assist HUD staff with the daily administration of FHA's Nonprofit Program activities. HUD maintains a roster of nonprofit organizations that are qualified to participate in certain specified FHA activities. The Nonprofit data used by HUD staff to: (1) Verify an agency's eligibility to participate in the program; (2) to validate that no conflicts of interest exists amongst board members, employees, business partners, and homebuyers; (3) to validate that discounted HUD-REO homes were sold to eligible buyers; and (4) to determine that participating agencies have not exceeded profit limits on the re-sale of HUD-REO homes purchased through the discount program. However, because Government entities do not need approval to participate in the program they are not required to submit any business documentation or documentation on any governing boards or key staff. Government entities are required to submit property reports documenting the purchase and sell of REO discount properties.

Routine uses of records maintained in the system, including categories Of users and the purpose of such uses:

In addition to those disclosures generally permitted under 5 U.S.C. 552a(b) of the Privacy Act other routine uses include:

(a) General Accounting Office (GAO) for audit purposes.

(b) IRS for tax reporting purposes.

(c) Management and Marketing contractors for processing sales of HUD Homes as authorized by 24 CFR Part 291.

Additionally, refer to Appendix 1, HUD's Inventory of Routine Uses” ⁴ section for a description of disclosures that may be applicable to this system.

⁴ http://portal.hud.gov/hudportal/documents/huddoc?id=append1.pdf.

Policies and practices for storing, retrieving, accessing, retaining, And disposing of records in the system:

Storage:

Records are stored electronically in a computer mainframe. No manual/paper based records.

Retrievability:

Records are searched by FHA case number, property address (including other geographical characteristics such as contract area, property state/city/county/zip code, HUD Homeownership Center), contractor ID/name, or nonprofit/government agency name. No paper based records.

Safeguards:

Records are maintained in a secured computer network. Access is limited to authorized personnel. ADAMS (P260) access requires two levels of logins to access the system. The first login uses HUD Siteminder system to verify that the user has active HUD authorization. The second login uses ADAMS (P260) internal security system to set permissions for data access and system functionality. No paper based records.

Retention and disposal:

Information is archived electronically. Records will be retained and disposed of in accordance with the General Records Schedule included in HUD Handbook 2228.2, appendix 14, items 21-26. At system retirement, records may be retained at the Federal Records Center. Paper base records are destroyed by burn or shredding. Electronic records are purged or deleted from the system when eligible to be destroyed using one of the methods described by the NIST SP 800-88 “Guideline for media Sanitization” (September 2006).

System manager and address:

Shawn Walkey, Office of Single Family Asset Management, 451 Seventh Street SW., Room 9182, Washington, DC 20410.

Notification and Record access procedures:

For information, assistance, or inquiry about the existence of records, contact the Privacy Act Officer, Department of Housing and Urban Development, 451 Seventh Street SW., Room 4178, Washington, DC 20410. (Attention: Capitol View Building, 4th Floor). Provide verification of your identity by providing two proofs of official identification. Your verification of identity must include your original signature and must be notarized. The Department's rules for providing access to records to the individual concerned appear in 24 CFR part 16.

Contesting record procedures:

The procedures for requesting amendment or correction of records appear in 24 CFR part 16. If additional information is needed, contact:

(iii.) In relation to contesting contents of records, the Privacy Act Officer at HUD, 451 Seventh Street SW., Room 4178 (Attention: Capitol View Building, 4th Floor), (202) 402-8073, Washington, DC 20410;

(iv.) In relation to appeals of initial denials, HUD, Departmental Privacy Appeals Officer, Office of General Counsel, 451 Seventh Street SW., Washington, DC 20410.

Record source categories:

Purchasers, Brokers, appraisers, contractors, Nonprofit/Government entities, and HUD employees.

Exemptions from certain provisions of the act:

None.

[FR Doc. 2014-04203 Filed 2-25-14; 8:45 am]

BILLING CODE 4210-67-P